DEPARTMENT OF TRANSPORTATION

Federal Transit Administration

[Docket Number: FTA-2007-27172]

Notice of Availability of Proposed Guidance on New and Small Starts Policies and Procedures

AGENCY: Federal Transit Administration (FTA), DOT.

ACTION: Notice of availability; request for comments.

SUMMARY: This notice announces the availability of the Federal Transit Administration's (FTA) Proposed Guidance on New and Small Starts Policies and Procedures and requests your comments on it. The guidance explains proposed changes to the New and Small Starts programs that will become effective upon the issuance of Final Guidance, which will be announced in a subsequent Federal Register notice. FTA requests comments on the Proposed Guidance, which is available in DOT's electronic docket and on FTA's Web site.

DATES: Comments must be received by March 14, 2007. Late filed comments will be considered to the extent practicable.

ADDRESSES: You may submit comments [identified by the DOT DMS Docket Number FTA-2007-27172] by any of the following methods:

Web site: http://dms.dot.gov. Follow the instructions for submitting comments on the DOT electronic docket site.

Fax: 202-493-2251.

Mail: Docket Management Facility; U.S. Department of Transportation, 400 Seventh Street, SW., Nassif Building, PL-401, Washington, DC 20590-0001.

Hand Delivery: Room PL-401 on the plaza level of the Nassif Building, 400 Seventh Street, SW., Washington, DC, between 9 a.m. and 5 p.m., Monday through Friday, except Federal holidays.

Instructions: You must include the agency name (Federal Transit Administration) and the docket number (FTA-2007-27172). You should submit two copies of your comments if you submit them by mail. If you wish to receive confirmation that FTA received your comments, you must include a self-addressed stamped postcard. Note that all comments received will be posted without change to the Department Docket Management System (DMS) Web site located at http://dms.dot.gov. This means that if your comment includes any personal identifying information, such information will be made available to users of DMS.

FOR FURTHER INFORMATION CONTACT: Ron Fisher, Office of Planning and Environment, telephone (202) 366-4033, Federal Transit Administration, U.S. Department of Transportation, 400 Seventh Street, SW., Washington, DC 20590 or Ronald.Fisher@dot.gov.

SUPPLEMENTARY INFORMATION:

1. Background

On August 10, 2005, President Bush signed the Safe, Accountable, Flexible, Efficient Transportation Equity Act: A Legacy for Users (SAFETEA-LU). Section 3011 of SAFETEA-LU made a number of changes to 49 U.S.C. 5309, which authorizes the Federal Transit Administration's (FTA) fixed guideway capital investment program known as “New Starts”, and created a new program category known as “Small Starts”. This notice announces the availability of FTA's Proposed Guidance on New and Small Starts Policies and Procedures and requests your comment as described below. The document is available in the docket, which can be accessed by going to http://dms.dot.gov at any time, or you can view the document on FTA's Web site at http://www.fta.dot.gov/15052_ENG-HTML.html.

A. Proposed Changes for the New and Small Starts Program

The purpose of this policy guidance is to solicit comments on the policies and procedures for the New and Small Starts programs. The changes, once announced as final, will apply to all New and Small Starts submittals received after the effective date announced in the Notice of Availability published in the Federal Register for the Final Guidance. The proposed improvements include: Elimination of the reporting requirements for information on FTA's measures for operating efficiencies and environmental benefits; optional submission of information related to land use; reduction in number of projects required to submit information for the Annual Report on Funding Recommendations; request for grantees to allow FTA's reviews of descriptions of alternatives to be timely; requirement for travel models to be validated based on recent transit surveys; an approach for accounting for additional user benefits for new transit modes to an area; use of a five-tiered rating for a project's overall rating; consideration of overmatch for Small and Very Small Starts; new measures for mobility of transit dependents; consolidation of the subfactors used for the capital and operating components of the financial rating; rating credit for consideration of private contracting for operations and maintenance; treatment of FTA rating information in planning studies; and consideration of congestion management/pricing strategies and “make-the-case” document as “other factors” for project justification. Comments received will be used to develop the ratings, evaluations, and procedures for projects seeking funds from the New and Small Starts programs, and will be issued in spring of 2007. FTA will respond to comments received in response to this Notice in a second Federal Register notice to be published after the close of the comment period. The notice will announce the availability of the Reporting Instructions for the Section 5309 New Starts Criteria and the Interim Guidance for Small Starts, reflecting the changes implemented as a result of this policy guidance and comments received thereon.

Issued in Washington, DC this 5th day February 2007.
James S. Simpson,
Administrator.

[FR Doc. E7-2249 Filed 2-9-07; 8:45 am]

BILLING CODE 4910-57-P